DEPARTMENT OF LABOR

Employment and Training Administration

[TA-W-58,780]

Direct Source Industries, San Francisco, CA; Notice of Revised Determination on Reconsideration

By letter dated April 10, 2006, a petitioner requested administrative reconsideration regarding the Department's Negative Determination Regarding Eligibility to Apply for Worker Adjustment Assistance, applicable to the subject firm. The determination was issued on March 3, 2006. On March 24, 2006, the Notice of determination was published in the Federal Register (71 FR 14954). The denial was based on the Department's finding that the workers do not produce an article or support a domestic production facility.

In the request for reconsideration, the petitioner asserts that, prior to the company's closure in October 2005, the workers were engaged in the production of garments (women's apparel).

During the reconsideration investigation, a company official stated that the subject workers were engaged in various functions (cut, inspected, washed, and pressed etc.) related to the production of garments. Based on this information, the Department determines that the subject workers were engaged in the production of garment producers (women's and girls' tops).

The investigation also revealed that aggregate U.S. imports of women's and girls tops increased significantly during the twelve month period ended June 2005 over the corresponding twelve month period ended June 2004 period. The ratio of aggregate United States imports of women's and girls' tops to United States shipments was well over 800 percent in 2004. The ratio increased significantly during the twelve month period ending June 2005.

The investigation further revealed that sales, production and employment at the subject plant declined during the relevant period.

In accordance with section 246 the Trade Act of 1974 (26 U.S.C. 2813), as amended, the Department herein presents the results of its investigation regarding certification of eligibility to apply for Alternative Trade Adjustment Assistance (ATAA) for older workers.

In order for the Department to issue a certification of eligibility to apply for ATAA, the group eligibility requirements of section 246 of the Trade Act, as amended, must be met. The Department has determined in this case that the requirements of section 246 have been met.

A significant number of workers at the firm are age 50 or over and possess skills that are not easily transferable. Competitive conditions within the industry are adverse.

Conclusion

After careful review of the information obtained in the reconsideration investigation, I determine that increases of imports of articles like or directly competitive with women's apparel produced by Direct Source Industries, San Francisco, California, contributed importantly to the total or partial separation of workers and to the decline in sales or production and at that firm or subdivision. In accordance with the provisions of the Act, I make the following certification:

All workers of Direct Source Industries, San Francisco, California, who became totally or partially separated from employment on or after February 2, 2005 through two years from the date of this certification, are eligible to apply for adjustment assistance under section 223 of the Trade Act of 1974, and are eligible to apply for alternative trade adjustment assistance under section 246 of the Trade Act of 1974, as amended.

Signed in Washington, DC this 17th day of May 2006.
Elliott S. Kushner,
Certifying Officer, Division of Trade Adjustment Assistance.

[FR Doc. E6-8055 Filed 5-24-06; 8:45 am]

BILLING CODE 4510-30-P